DEPARTMENT OF THE TREASURY

Proposed Privacy Act Systems of Records

AGENCY: Departmental Offices, Treasury.

ACTION: Notice of Proposed Privacy Act Systems of Records.

SUMMARY: In accordance with the requirements of the Privacy Act of 1974, as amended, the Department of the Treasury, Departmental Offices gives notice of a proposed system of records entitled, “Treasury 013—Department of the Treasury Civil Rights Complaints and Compliance Review Files.”

DATES: Comments must be received no later than October 11, 2011. The proposed new system of records will be effective October 11, 2011 unless comments are received which would result in a contrary determination.

ADDRESSES: Written comments should be sent to the Associate Chief Human Capital Officer for Civil Rights and Diversity, Department of the Treasury, 1500 Pennsylvania Avenue, NW., Washington, DC 20220. The Department will make such comments available for public inspection and copying in the Department's Library, Room 1428, Main Treasury Building, 1500 Pennsylvania Avenue, NW., Washington, DC 20220, on official business days between the hours of 10 a.m. and 5 p.m. Eastern Daylight Time. You can make an appointment to inspect comments by telephoning (202) 622-0990. All comments received, including attachments and other supporting materials, are part of the public record and subject to public disclosure. You should submit only information that you wish to make available publicly.

FOR FURTHER INFORMATION CONTACT: Mariam G. Harvey, Department of the Treasury, 1500 Pennsylvania Avenue, NW., Washington, DC 20220, at (202) 622-0316, (202) 622-0367 (fax), or via electronic mail at ocrd.comments@do.treas.gov.

SUPPLEMENTARY INFORMATION: The Department of the Treasury (Treasury) established the Office of Civil Rights and Diversity to ensure equal employment opportunity for its employees and applicants for employment, and to ensure that programs and activities conducted by or receiving financial assistance from Treasury meet the non-discrimination requirements set out by Title VI of the Civil Rights Act, Title IX of the Education Amendments, the Age Discrimination Act and Sections 504 and 508 of the Rehabilitation Act. In performing its mission, the Office of Civil Rights and Diversity will create records having to do with civil rights complaints, compliance reviews, and correspondence. Members of the public can file administrative complaints alleging discrimination and the Office of Civil Rights and Diversity is responsible for investigating those complaints over which it has jurisdiction. Treasury will maintain records of the complaints filed by the public and their disposition. Treasury administers programs offering financial assistance, such as the Low Income Taxpayer Clinics and the Community Development Financial Institutions Fund. Treasury has the responsibility to ensure that its financially assisted programs are administered in a nondiscriminatory manner. The guidance provided to the Federal agencies by the Department of Justice requires Federal agencies to conduct compliance reviews of its recipients of financial assistance as the best way to ensure nondiscrimination. Treasury will maintain records of its recipients' compliance with the applicable civil rights laws.

In a notice of proposed rulemaking, which is published separately in the Federal Register, the Office of Civil Rights and Diversity is proposing to exempt records maintained in several systems from certain of the Privacy Act's requirements pursuant to 5 U.S.C. 552a(k)(2).

The report of a new system of records, as required by 5 U.S.C. 552a(r) of the Privacy Act, has been provided to the Committee on Oversight and Government Reform of the House of Representatives, the Committee on Homeland Security and Governmental Affairs of the Senate, and the Office of Management and Budget.

The proposed new system of records, entitled “Treasury .013—Department of the Treasury Civil Rights Complaints and Compliance Review Files,” is published in its entirety below.

Dated: August 17, 2011.
Veronica Marco,
Acting Deputy Assistant Secretary for Privacy, Transparency and Records.

Treasury .013

System name:

Department of the Treasury Civil Rights Complaints and Compliance Review Files.

System location:

These records are located in the Department of the Treasury's (Treasury) Office of Civil Rights and Diversity (OCRD), the Office of the General Counsel, and any other office within a Treasury bureau where a complaint is filed or where the action arose.

The locations at which the system is maintained are:

(1) a. Departmental Offices (DO): 1500 Pennsylvania Ave., NW., Washington, DC 20220.

b. The Office of Inspector General (OIG): 740 15th Street, NW., Washington, DC 20220.

c. Treasury Inspector General for Tax Administration (TIGTA): 1125 15th Street, NW., Suite 700A, Washington, DC 20005.

d. Special Inspector General for the Troubled Asset Relief Program (SIGTARP), 1801 L. Street, NW., Washington, DC 20036.

(2) Alcohol and Tobacco Tax and Trade Bureau (TTB): 1310 G. St., NW., Washington, DC 20220.

(3) Office of the Comptroller of the Currency (OCC): 250 E Street, NW., Washington, DC 20219-0001.

(4) Bureau of Engraving and Printing (BEP): 14th & C Streets, SW. Washington, DC 20228.

(5) Financial Management Service (FMS): 401 14th Street, SW., Washington, DC 20227.

(6) Internal Revenue Service (IRS): 1111 Constitution Avenue, NW., Washington, DC 20224.

(7) United States Mint (MINT): 801 9th Street, NW., Washington, DC 20220.

(8) Bureau of the Public Debt (BPD): 999 E Street, NW., Washington, DC 20239.

(9) Financial Crimes Enforcement Network (FinCEN), Vienna, VA 22183-0039.

Categories of individuals covered by the system:

Covered individuals include persons who file complaints alleging discrimination or violation of their rights under the statutes identified below (Authority for Maintenance) and covered entities (e.g., recipients of financial assistance from Treasury such as grantees and sub-grantees), whether individuals, organizations or institutions, investigated by OCRD as a result of allegations of discrimination or through compliance reviews conducted by OCRD. Covered individuals also include persons who submit correspondence to OCRD related to other compliance activities (e.g., outreach and public education), and other correspondence unrelated to a complaint or review and requiring response by OCRD.

Categories of records in the system:

The system encompasses a variety of records having to do with complaints, compliance reviews, and correspondence. The complaint files and log include complaint allegations, information gathered during the complaint investigation, findings and results of the investigation, and correspondence relating to the investigation, as well as status information for all complaints.

Equivalent types of information are maintained for reviews and correspondence activities (namely information gathered, findings, results, correspondence and status).

Authority for maintenance of the system:

Title VI of the 1964 Civil Rights Act of 1964; sections 504 and 508 of the Rehabilitation Act of 1973; the Age Discrimination Act of 1975; and Title IX of the Education Amendments Act of 1972.

Purpose(s):

The complaint files and other records will be used to enforce and ensure compliance with the legal authorities listed above. Treasury uses the information in this system to investigate complaints and to obtain compliance with civil rights laws.

The system is used for the investigation of complaints and in reviewing recipients of Treasury financial assistance to determine if these programs are in compliance with the Federal laws which prohibit discrimination on the basis of race, color, national origin, sex, age, and disability. In addition, the system contains case files developed in investigating complaints and in reviewing actions within Treasury to determine if its conducted programs and activities are in compliance with the Federal laws. The system also contains annual and bi-annual statistical data submitted to and used by the OCRD in monitoring the compliance status of recipients of Department of the Treasury financial assistance.

Routine uses of records maintained in the system, including categories of users and the purposes of such uses:

These records may be used to disclose pertinent information to:

1. Appropriate Federal agencies responsible for a civil rights action or, prosecuting a violation of, or enforcing, or implementing, a statute, rule, regulation, or order, where Treasury becomes aware of an indication of a potential violation of civil or criminal law or regulation, rule or order.

2. Provide information to a congressional office in response to an inquiry made at the request of the individual to whom the record pertains;

3. Another Federal agency, to a court, or a party in litigation before a court or in an administrative proceeding being conducted by a Federal agency, when the Federal Government is a party to the judicial or administrative proceeding. In those cases where the Federal Government is not a party to the proceeding, records may be disclosed if a subpoena has been signed by a court of competent jurisdiction.

4. The National Archives and Records Administration (“NARA”) for use in its records management inspections and its role as an Archivist.

5. The United States Department of Justice for the purpose of representing or providing legal advice to Treasury in a proceeding before a court, adjudicative body, or other administrative body before which Treasury is authorized to appear, when such proceeding involves:

(A) Treasury or any component thereof;

(B) Any employee of Treasury in his or her official capacity;

(C) Any employee of Treasury in his or her individual capacity where the Department of Justice or Treasury has agreed to represent the employee;

(D) The United States, when Treasury determines that litigation is likely to affect Treasury or any of its components.

6. Contractors and their agents, grantees, experts, consultants, and others performing or working on a contract, service, grant, cooperative agreement, or other assignment for Treasury, when necessary to accomplish an agency function related to this system of records. Individuals provided information under this routine use are subject to the same Privacy Act requirements and limitations on disclosure as are applicable to Treasury officers and employees.

7. Appropriate agencies, entities, and persons when: (a) Treasury suspects or has confirmed that the security or confidentiality of information in the system of records has been compromised; (b) Treasury has determined that as a result of the suspected or confirmed compromise that there is a risk of harm to economic or property interests, identity theft or fraud, or harm to the security or integrity of this system or other systems or programs (whether maintained by Treasury or another agency or entity) that rely upon the compromised information; and (c) the disclosure made to such agencies, entities, and persons is reasonably necessary to assist in connection with Treasury's efforts to respond to the suspected or confirmed compromise and prevent, minimize, or remedy such harm.

Policies and practices for storing, retrieving, accessing, retaining, and disposing of records in the system:

Storage:

Paper records, file folders and/or electronic media.

Retrievability:

In the case of administrative complaints, records are indexed by the complainant's name. In the case of compliance reviews, records are indexed by the name of the recipient of financial assistance.

Safeguards:

The civil rights complaint and compliance file system will conform to applicable law and policy governing the privacy and security of Federal records. These include but are not limited to the Privacy Act of 1984, and the Paperwork Reduction Act of 1995. Only authorized users have access to the records in the system. Specific access is structured around need and is determined by the person's role in the organization.

Printed materials are filed in secure cabinets in secure Federal buildings with access based on need.

Retention and disposal:

Documents related to complaints and reviews are retained at OCRD for three years from the date the complaint is closed and then are archived at the National Archives and Records Administration for 15 years. Correspondence is retained for one year following the end of the fiscal year in which processed.

System manager(s) and address:

Department of the Treasury: Official prescribing policies and practices: Associate Chief Human Capital Officer for Civil Rights and Diversity.

The system managers for the Treasury components are:

(1) Treasury: OCRD, External Civil Rights Program Manager, 1500 Pennsylvania Avenue, NW., Washington, DC 20220.

(2) a. DO: Office of EEO, EEO Director, 1500 Pennsylvania Avenue, NW., Washington, DC 20220.

b. OIG: EEO and Diversity Manager, 740 15th Street, NW., Suite 500, Washington, DC 20220.

c. TIGTA: EEO Program Manager, 1125 15th Street, NW., Suite 700A, Washington, DC 20005.

(d) SIGTARP: EEO Program Manager, 1801 L Street, NW., 3rd Floor, Washington, DC 20220.

(3) TTB: EEO Officer, 1310 G Street, NW., Suite 300W, Washington, DC 20220.

(4) OCC: Director, Workplace Fairness and Equal Opportunity, 250 E Street, SW., Washington, DC 20219.

(5) BEP: Chief, Office of Equal Opportunity and Diversity Management, 14th and C Street, SW., Room 639-17, Washington, DC 20228.

(6) FMS: EEO Officer, PG Center, Building 2, Room 137, 3700 East-West Highway, Hyattsville, MD 20782.

(7) IRS: Director, Civil Rights Division, 1111 Constitution Avenue, NW., Suite 2219, Washington, DC 20224.

(8) U.S. Mint: Chief, EEO and Dispute Resolution Division, 801 9th Street, NW., 3rd Floor, Washington, DC 20220.

(9) BPD: EEO Officer, 200 3rd Street, Room 102, Parkersburg, WV 26106.

(10) FinCEN: Chief, Outreach and Workplace Solutions, 2070 Chain Bridge Road, Suite 200, Vienna, VA 22182.

Notification procedure:

Individuals seeking notification and access to any record contained in this system of records, or seeking to contest its content, may inquire in writing in accordance with instructions appearing at 31 CFR part 1, subpart C, appendices A-M. Requests for information and specific guidance on where to send requests for records may be addressed to: Privacy Act Request, DO, Director, Disclosure Services Department of the Treasury, 1500 Pennsylvania Avenue, NW., Washington, DC 20220.

Record access procedures:

See “Notification Procedure” above.

Contesting record procedures:

See “Notification Procedure” above.

Record source categories:

Information is provided by Treasury employees, complainants and covered entities.

Records exempted from certain provisions of the act:

Certain records in this system are exempt from 5 U.S.C. 552a(c)(3), (d)(1), (2), (3), and (4), (e)(1), (e)(4)(G), (H),and (I), and (f) of the Privacy Act pursuant to 5 U.S.C. 552a(k)(2). See 31 CFR 1.36.

[FR Doc. 2011-22977 Filed 9-7-11; 8:45 am]

BILLING CODE 4810-25-P